DEPARTMENT OF HOMELAND SECURITY

Transportation Security Administration

Extension of Agency Information Collection Activity Under OMB Review: Employment Standards

AGENCY: Transportation Security Administration, DHS.

ACTION: 30-Day Renewal Notice.

SUMMARY: This notice announces that the Transportation Security Administration (TSA) has forwarded the Information Collection Request (ICR), OMB control number 1652-0006, abstracted below to the Office of Management and Budget (OMB) for review and approval of an extension of the currently approved collection under the Paperwork Reduction Act. The ICR describes the nature of the information collection and its expected burden. TSA published a Federal Register notice, with a 60-day comment period soliciting comments, of the following collection of information on June 15, 2009, 74 FR 28267. The collection involves airport operator maintenance of records in compliance with 49 CFR part 1542 for employees with access privileges to secure areas of the airport and aircraft operator maintenance of records in compliance with 49 CFR part 1544 for selected crew and security employees. TSA Transportation Security Inspectors (TSI) review these records to ensure that the safety and security of the public is not compromised, to include using this information to take corrective action when necessary.

DATES: Send your comments by September 21, 2009. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Ginger LeMay, Office of Information Technology, TSA-11, Transportation Security Administration, 601 South 12th Street, Arlington, VA 20598-6011; telephone (571) 227-3616; e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Employment Standards.

Type of Request: Extension of a currently approved collection.

OMB Control Number: 1652-0006.

Forms(s): NA.

Affected Public: Airport and aircraft operators regulated under 49 CFR parts 1542 and 1544.

Abstract: Airport operators are required to maintain records of compliance with part 1542 for those employees with access privileges to secure areas of the airport. Aircraft operators are required to maintain records of compliance with part 1544 for selected crew and security employees. TSA TSIs review these records to ensure that the safety and security of the public is not compromised, to include using this information to take corrective action when necessary.

Number of Respondents: 1,321.

Estimated Annual Burden Hours: An estimated 491,009 hours annually. The burden hour estimate report in TSA's June 15, 2009 notice has been revised in light of the increase in the number of employees requiring access privileges to secure areas of the airport regulated under these parts due to a change in policy.

Issued in Arlington, Virginia, on August 17, 2009.
Ginger LeMay,
Paperwork Reduction Act Officer, Office of Information Technology.

[FR Doc. E9-20043 Filed 8-19-09; 8:45 am]

BILLING CODE 9110-05-P